Title 3—

The President

Proclamation 7446 of June 2, 2001

National Child's Day, 2001

By the President of the United States of America

A Proclamation

Our children, who are today dreaming big dreams and who are filled with hope, will someday serve as leaders in government, industry, education, and the arts. For the good of our country and its continued progress and advancement, we must strive to give all young Americans the best possible start in life.

Falling between Mother's Day and Father's Day, Child's Day is celebrated this year on June 3, the first Sunday of the month. This special occasion gives us a unique opportunity to remember the joys and wonder of our own childhood and to reflect on how positive and healthy experiences in one's early years significantly influence later achievements and happiness.

All adults must work together to ensure the safety and well-being of our Nation's most precious resource, our children. Every youngster deserves to live in a safe, permanent, and caring family; but, unfortunately, this is not always the case. Government cannot make people love one another, but it can and must cultivate a climate that helps families, as well as the individuals and groups that support them.

Our Nation must reaffirm its commitment to loving and caring for our children. We must improve the safety of schools and neighborhoods and mobilize faith-based and community groups to fight poverty and addiction. Because many youngsters now grow up in single-parent homes, we must promote responsible fatherhood, in all its aspects, including spiritual leadership, emotional security, and financial support. We must also help families in crisis, protect children from abuse and neglect, and encourage adoption for children who must be removed from their biological parents.

Our responsibility to our young people, however, extends beyond just their physical and emotional well-being. We must also provide them with a quality education, so that no child is left behind in our fast-paced global economy. Adults should also encourage youngsters to always set high goals, make right choices, and stay involved in their communities. By doing so, boys and girls can pursue lives of meaning and fulfillment as contributing members of society.

Every child in every neighborhood has unique gifts to offer. We must nurture our children's dreams, help them develop their talents and abilities, and ensure their healthy development so that they may reach their full potential. Our success in this vital endeavor will affect the direction of their lives and the future strength and vitality of our Nation.

In recognition of the importance of our Nation's children, the Senate, by Senate Resolution 90 approved May 25, 2001, has designated June 3, 2001, as “National Child's Day” and has requested that the President issue a Proclamation calling for appropriate ceremonies and activities.

NOW, THEREFORE, I, GEORGE W. BUSH, President of the United States of America, by virtue of the authority vested in me by the Constitution and laws of the United States, do hereby proclaim June 3, 2001, as National Child's Day. I encourage all Americans to share in the mission of preparing our young people for life's challenges and opportunities. By reading to youngsters, listening to their cares and concerns, and providing them with safe and loving homes, we can make a positive and lasting contribution to their health, happiness, and well-being.

IN WITNESS WHEREOF, I have hereunto set my hand this second day of June, in the year of our Lord two thousand one, and of the Independence of the United States of America the two hundred and twenty-fifth.

B

[FR Doc. 01-14407

Filed 06-05-01; 8:45 am]

Billing code 3195-01-P